DEPARTMENT OF JUSTICE

United States Marshals Service; Notice of Intent To Prepare a Draft Environmental Impact Statement for the Development of a Pre-Trial Detention Facility in Pinal County, AZ

July 20, 2000.

AGENCY: United States Marshals Service, U.S. Department of Justice.

ACTION: Notice of Intent to Prepare a Draft Environmental Impact Statement (DEIS).

SUMMARY:

Proposed Action

The mission of the United States Department of Justice, United States Marshals Service (USMS) is to protect the federal courts and ensure the effective operation of the judicial system. In addition to this primary responsibility, the USMS assumes custody of individuals arrested by all federal agencies and is responsible for the housing and transportation of prisoners from the time they are brought into federal custody until they are either acquitted or incarcerated. Finally, the USMS has primary jurisdiction nationwide in conducting and investigating fugitive matters involving escaped federal prisoners, probation, parole, and bond default violators, and warrants generated by Drug Enforcement Administration investigations and certain other related felony cases.

During the past decade, the federal detainee population has experienced unprecedented growth as a result of expanded federal law enforcement initiatives and resources. The detainee population has increased by more than 725 percent, from almost 4,000 in 1981 to more than 33,000 today. Current projections indicate that approximately 38,000 detention beds will be needed for federal detainees by the year 2001, with approximately 43,000 beds required by 2002. The growth in the detainee population is occurring at the same time that available local jail space is decreasing. Local jail space is increasingly needed to house local offenders, leaving less space available for the contractual accommodation of federal detainees. These trends are projected to continue unabated for the foreseeable future and present a major challenge for those federal agencies responsible for detaining prisoners.

Faced with severe shortages in state and local prisoner bedspace, especially in major metropolitan areas (federal court cities), as well as court ordered caps on prisoner populations, the USMS is finding it increasingly difficult to house federal prisoners. The USMS has been forced to house prisoners in facilities that are further away from federal court cities. The resultant long-distance movement of federal prisoners involves substantial amounts of USMS time and resources and strains the USMS Justice Prisoner and Alien Transportation System to its limits. The USMS has determined that there is an immediate and long-term need for up to 2,000 beds located within a 100-mile radius of Tucson and Phoenix, Arizona, both of which are federal court cities. The high level of USMS and INS activity in the Southwestern corridor of the United States requires more beds than are readily available in local or state facilities. The shortage of beds has been ongoing for more than two years. The USMS has a specific need for detention facilities to be located near federal courthouses because of its responsibility to detain those individuals accused of violating federal laws.

Two sites in Pinal County, Arizona have been offered to the USMS for consideration in developing the pre-trial detention facility. The USMS has preliminarily evaluated these sites and determined that the prospective sites appear to be of sufficient size to provide space for housing, programs, administrative services and other support facilities associated with the detention facility. The DEIS to be prepared by the USMS will analyze the potential impacts of detention facility construction and operation at these sites.

The Process

In the process of evaluating the sites, several aspects will receive detailed examination including, but not limited to: topography, geology/soils, hydrology, biological resources, utility services, transportation services, cultural resources, land uses, socio-economics, hazardous materials, air and noise quality, among others.

Alternatives

In developing the DEIS, the options of “no action” and “alternative sites” for the proposed facility will be fully and thoroughly examined.

Scoping Process

During the preparation of the DEIS, there will be opportunities for public involvement in order to determine the issues to be examined. A public Scoping Meeting will be held at 7:00 P.M., August 16, 2000 at the Florence Elementary School, located at Brady and Orlando streets, Florence, Arizona. The meeting location, date, and time will be well publicized and has been arranged to allow for the public as well as interested agencies and organizations to attend. The meeting is being held to allow interested persons to formally express their views on the scope and significant issues to be studied as part of the DEIS process. The Scoping Meeting is being held to provide for timely public comments and understanding of federal plans and programs with possible environmental consequences as required by the National Environmental Policy Act of 1969, as amended, and the National Historic Preservation Act of 1966, as amended.

DEIS Preparation

Public notice will be given concerning the availability of the DEIS for public review and comment.

ADDRESSES: Questions concerning the proposed action and the DEIS may be directed to: Charles Coburn, Associate General Counsel, U.S. Marshals Service, 600 Army-Navy Drive, Suite 1200, Arlington, Virginia; Telephone: (202) 307-9045; Telefacsimile: (202) 307-9456.

Dated: July 20, 2000.
Charles Coburn,
Associate General Counsel, U.S. Marshals Service.

[FR Doc. 00-18862 Filed 7-27-00; 8:45 am]

BILLING CODE 4410-04-P